DEPARTMENT OF THE INTERIOR

Bureau of Land Management

[WY-100-5700-00-EU; WYW-82538]

Realty Action: Direct Sale of Public Lands; Wyoming

AGENCY: Bureau of Land Management, Interior.

ACTION: Notice of realty action.

SUMMARY: The following public land in Sublette County has been examined and found suitable for direct sale under Section 203 of the Federal Land Policy and Management Act of 1976 (43 U.S.C. 1713) at not less than the fair market value.

Sixth Principal Meridian

T. 30 N., R. 106 W.

Sec. 9, SE¼NW¼

The above lands contain 40 acres, more or less.

SUPPLEMENTARY INFORMATION: The BLM proposes to sell the surface estate of the above described land to William and Phyllis Mayo. The parcel is completely surrounded by William and Phyllis Mayo's private land holdings.

FOR FURTHER INFORMATION CONTACT: Bill Wadsworth, Realty Specialist, Bureau of Land Management, Pinedale Field Office, P.O. Box 768, Pinedale, WY 82941, 307-367-5341.

The proposed sale is consistent with the Pinedale Field Office Management Plan and because of its location is difficult and uneconomic to manage as part of the public lands, and is not suitable for management by another Federal department. The land contains no other known public values. Detailed information concerning this action is available for review at the Bureau of Land Management, Pinedale Field Office, 432 East Mill Street, Pinedale, WY 82941.

Conveyance of the public land will be subject to:

1. Reservation of a right-of-way for ditches or canals pursuant to the Act of August 30, 1890, 43 U.S.C. 945.

2. Reservation of all minerals to the United States Of America, together with the right to prospect for, mine and remove the minerals.

3. All valid existing rights documented on the official public land records at the time of conveyance.

Upon publication of this notice in the Federal Register, the land will be segregated from all other forms of appropriation under the public land laws, including the general mining laws, except for conveyance under the Federal Land Policy and Management Act and leasing under the mineral leasing laws. The segregative effect will end upon issuance of the patent or 270 days from the date of this publication, whichever occurs first.

For a period of forty-five (45) days from the date of issuance of this notice, interested parties may submit comments to the Bureau of Land Management, Field Manager, Pinedale Field Office, P.O. Box 768, Pinedale, Wyoming, 82941. Any adverse comments will be reviewed by the State Director, who may sustain, vacate, or modify this realty action. In the absence of any objections, this proposed realty action will become final.

Dated: April 27, 2000.
Priscilla E. Mecham,
Field Manager.

[FR Doc. 00-11097 Filed 5-3-00; 9:45 am]

BILLING CODE 4310-84-M